DEPARTMENT OF TRANSPORTATION

Federal Aviation Administration

14 CFR Part 39

[Docket No. 2000-NM-297-AD]

RIN 2120-AA64

Airworthiness Directives; Airbus Model A300 B2 and B4 Series Airplanes; and Model A300 B4-601, B4-603, B4-620, B4-605R, B4-622R, and F4-605R Airplanes

AGENCY: Federal Aviation Administration, DOT.

ACTION: Supplemental notice of proposed rulemaking; reopening of comment period.

SUMMARY: This document revises a previously proposed airworthiness directive (AD) applicable to certain Airbus Model A300 B2 and B4 series airplanes and Model A300 B4-601, B4-603, B4-620, B4-605R, B4-622R, and F4-605R airplanes. The previously proposed AD would have revised an existing AD to remove one model from the applicability. That AD currently requires a one-time inspection for cracking of the gantry lower flanges in the main landing gear (MLG) bay area; and repair, if necessary. This new action, which proposes to supersede the existing AD, would remove the one model from the applicability. For certain airplanes, it would retain the one-time inspection for cracking of the gantry lower flanges and repair, if necessary. For other airplanes, this new action would add repetitive inspections of the gantry lower flanges; repair, if necessary; and reinforcement of the left-hand and right-hand gantry. The actions specified by this new proposed AD are intended to detect and correct cracking of the gantry lower flanges in the MLG bay area, which could result in decompression of the airplane.

DATES: Comments must be received by July 30, 2002.

ADDRESSES: Submit comments in triplicate to the Federal Aviation Administration (FAA), Transport Airplane Directorate, ANM-114, Attention: Rules Docket No. 2000-NM-297-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-297-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-297-AD.” The postcard will be date stamped and returned to the commenter.

Availability of NPRMs

Any person may obtain a copy of this NPRM by submitting a request to the FAA, Transport Airplane Directorate, ANM-114, Attention: Rules Docket No. 2000-NM-297-AD, 1601 Lind Avenue, SW., Renton, Washington 98055-4056.

Discussion

A proposal to amend part 39 of the Federal Aviation Regulations (14 CFR part 39) to add an airworthiness directive (AD), applicable to Airbus Model A300 B2 and B4 series airplanes; and Model A300 B4-601, B4-603, B4-620, B4-605R, B4-622R, and F4-605R airplanes, was published as a notice of proposed rulemaking (NPRM) in the Federal Register on January 10, 2001 (66 FR 1917). That NPRM proposed to revise AD 98-13-37, amendment 39-10628 (63 FR 34589, June 25, 1998), which is applicable to certain Airbus Model A300 and all Model A300-600 series airplanes. (See the “Explanation of Airplane Model Designation” below.) The NPRM proposed to continue to require a one-time inspection for cracking of the gantry lower flanges in the main landing gear (MLG) bay area, and repair, if necessary, but would have removed Model A300 F4-622R airplanes from the applicability. Removing Model A300 F4-622R airplanes from the proposed applicability was based on information received from the Direction Générale de l'Aviation Civile (DGAC), the French civil airworthiness authority. This information indicated that Model A300 F4-622R airplanes are not subject to cracking of the gantry lower flanges in the MLG bay area.

Explanation of Airplane Model Designation

The applicability of AD 98-13-37 includes the following airplane models: A300 B4-601, B4-603, B4-620, B4-605R, B4-622R, F4-605R, and F4-622R. However, since these airplanes are commonly referred to as “Model A300-600 series airplanes,” that model designation was specified in the applicability of that AD. Since the issuance of that AD, the FAA has determined that these airplanes should be designated exactly as they appear on the type certificate data sheet. Therefore, the applicability of the previously proposed AD, as well as that of this new NPRM, designates each specific model (excluding Model F4-622R airplanes, which are purposely removed) without referring to the common name of the airplane.

Actions Since Issuance of Previous Proposal

Since the issuance of the previous proposal, the FAA has been advised that Airbus has issued Service Bulletin A300-53-6128, dated March 5, 2001, for Model A300 B4-601, B4-603, B4-605R, B4-620, B4-622, B4-622R, and F4-605R airplanes. The service bulletin describes procedures for repetitive inspections for cracks of the lower flanges of gantries 3, 4, and 5 on the left-hand and right-hand sides; repair of any cracks detected; and reinforcement of the left-hand and right-hand gantries. The service bulletin also provides a sequence of steps for accomplishing threshold and repetitive inspections, repair, and reinforcement in the Synoptic Chart included as Figure 2, Sheets 1 through 5; the Synoptic Chart also indicates the interval between certain steps.

Differences Between Proposed Rule and Service Bulletin

Operators should note that, although the service bulletin specifies that the manufacturer may be contacted for disposition of certain repairs, this proposal would require those repairs to be accomplished per a method approved by the FAA.

FAA's Determination

The FAA has determined that—for Model A300 B4-601, B4-603, B4-605R, B4-620, B4-622, B4-622R, and F4-605R airplanes—the following actions must be accomplished in accordance with Airbus Service Bulletin A300-53-6128, dated March 5, 2001:

• Initial and repetitive inspections for cracking of the gantry lower flanges in the main landing gear bay area.

• Repairs, if necessary.

• Reinforcement of the left-hand and right-hand gantries.

Conclusion

Since these requirements expand the scope of the originally proposed rule, the FAA has determined that it is necessary to issue this supplemental notice of proposed rulemaking which proposes to supersede the existing AD rather than to revise it. Issuance of this supplemental NPRM provides opportunity for public comment on the proposed repetitive inspections.

Cost Impact

One-Time Inspection

The number of airplanes affected by AD 98-13-37 was estimated to be 67. The one-time inspection required by that AD was estimated to take approximately 4 work hours per airplane to accomplish, at an average labor rate of $60 per work hour. Based on these figures, the cost impact of AD 98-13-37 on U.S. operators was estimated to be $16,080, or $240 per airplane.

The FAA currently estimates that 43 Model A300 B2 and B4 series airplanes of U.S. registry would be affected by the one-time inspection required by AD 98-13-37 and proposed to be retained in this supplemental NPRM. We also estimate that all affected U.S. operators have previously accomplished these requirements, so that the future cost impact of this requirement is minimal.

Repetitive Inspections

The FAA estimates that 78 Model A300 B4-601, B4-603, B4-605R, B4-620, B4-622R, and F4-605R airplanes of U.S. registry would be affected by the proposed repetitive inspections, that it would take approximately 12 work hours per airplane to accomplish each inspection, and that the average labor rate is $60 per work hour. Based on these figures, the cost impact of the proposed repetitive inspections on those U.S. operators is estimated to be $56,160, or $720 per airplane, per inspection cycle.

The cost impact figures for the repetitive inspections are based on assumptions that no operator has yet accomplished those repetitive inspections and that no operator would accomplish those repetitive inspections in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10628 (63 FR 34589, June 25, 1998) and by adding a new airworthiness directive to read as follows:

Airbus: Docket 2000-NM-297-AD. Supersedes AD 98-13-37, Amendment 39-10628.

Applicability: Model A300 B2 and B4 series airplanes on which Airbus Modification 3474 has been accomplished; and Model A300 B4-601, B4-603, B4-605R, B4-620, B4-622R, and F4-605R airplanes on which Airbus Modification 12169 has not been incorporated in production; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct cracking of the gantry lower flanges in the main landing gear (MLG) bay area, which could result in decompression of the airplane, accomplish the following:

One-Time Inspection and Corrective Action, if Needed

(a) For Model A300 B2 and B4 series airplanes: Prior to the accumulation of 16,300 total flight cycles, or within 500 flight cycles after July 30, 1998 (the effective date of AD 98-13-37, amendment 39-10628), whichever occurs later, perform a one-time ultrasonic inspection for cracking of the gantry lower flanges in the MLG bay area, in accordance with Airbus All Operators Telex (AOT) 53-11, dated October 13, 1997.

(1) If any cracking is detected, prior to further flight, repair in accordance with the AOT.

(2) If no cracking is detected, no further action is required by this AD.

Repetitive Inspections and Corrective Action, if Needed

(b) For Model A300 B4-601, B4-603, B4-605R, B4-620, B4-622R, and F4-605R airplanes: Perform the requirements of paragraphs (b)(1) and (b)(2) of this AD, in accordance with Airbus Service Bulletin A300-53-6128, dated March 5, 2001.

(1) Perform initial and repetitive ultrasonic inspections or high-frequency eddy current (HFEC) inspections for cracks of the lower flanges of gantries 3, 4, and 5 between fuselage frames FR47 and FR54, in accordance with the thresholds and the Accomplishment Instructions, including the Synoptic Chart contained in Figure 2, sheets 1 through 5 inclusive, of the service bulletin.

(2) Perform repairs and reinforcements, in accordance with the thresholds and the Accomplishment Instructions, including the Synoptic Chart contained in Figure 2, sheets 1 through 5 inclusive, of the service bulletin, except as specified in paragraph (b)(3) of this AD.

(3) If a new crack is found during any inspection required by paragraph (b)(1) or (b)(2) of this AD and the Synoptic Chart contained in Figure 2, sheets 1 through 5 inclusive, of the service bulletin specifies to contact Airbus for appropriate action: Prior to further flight, repair per a method approved by the Manager, International Branch, ANM-116, FAA, Transport Airplane Directorate.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Note 3: The subject of this AD is addressed in French airworthiness directives 1997-372-236(B) R2, dated April 18, 2001, and 2001-091(B), dated March 21, 2001.

Issued in Renton, Washington, on June 18, 2002.
Ali Bahrami,
Acting Manager, Transport Airplane Directorate, Aircraft Certification Service.

[FR Doc. 02-15912 Filed 6-24-02; 8:45 am]

BILLING CODE 4910-13-P